POSTAL SERVICE

39 CFR Part 111

Domestic Mail Manual; Incorporation by Reference

AGENCY: Postal Service™.

ACTION: Final rule.

SUMMARY: The Postal Service announces the issuance of the Mailing Standards of the United States Postal Service, Domestic Mail Manual (DMM®) dated January 21, 2024, and its incorporation by reference in the Code of Federal Regulations.

DATES: This rule is effective March 4, 2024. The incorporation by reference of certain material listed in this rule is approved by the Director of the Federal Register as of March 4, 2024.

FOR FURTHER INFORMATION CONTACT: Dale Kennedy (202) 268-6592.

SUPPLEMENTARY INFORMATION: The Mailing Standards of the United States Postal Service, Domestic Mail Manual (DMM) provides the United States Postal Service's official prices and standards for all domestic mailing services. The most recent issue of the DMM is dated January 21, 2024. This issue of the DMM contains all Postal Service domestic mailing standards and continues to: (1) increase the user's ability to find information; (2) increase confidence that users have found all the information they need; and (3) reduce the need to consult multiple chapters of the Manual to locate necessary information. The issue dated January 21, 2024, sets forth specific changes, including new standards throughout the DMM to support the standards and mail preparation changes implemented since the version issued on July 10, 2022.

Changes to mailing standards will continue to be published through Federal Register documents and the Postal Bulletin and will appear in the next online version available via the Postal Explorer® website at: https://pe.usps.com.

List of Subjects in 39 CFR Part 111

Administrative practice and procedure, Incorporation by reference.

In view of the considerations discussed above, the Postal Service hereby amends 39 CFR part 111 as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Amend § 111.1 by revising paragraphs (a)(3) and (b) to read as follows:

§ 111.1 Incorporation by reference; Mailing Standards of the United States Postal Service, Domestic Mail Manual.

(a) * * *

(3) Inspection—NARA. You may view this material at the National Archives and Records Administration (NARA). For information on the availability of this material at NARA, visit www.archives.gov/federal-register/cfr/ibr-locations or email fr.inspection@nara.gov.

(b) The Director of the Federal Register approved DMM, updated January 21, 2024, for incorporation by reference as of March 4, 2024.

3. Amend § 111.3 by adding an entry for “DMM” to the end of table 1 to read as follows:

§ 111.3 Amendments to the Mailing Standards of the United States Postal Service, Domestic Mail Manual.

* * * * *

Table 1 to § 111.3—Domestic Mail Manual
Transmittal letter for issue | Dated | Federal Register publication
* * * * * * *
DMM | January 21, 2024 | [Insert Federal Register citation for this final rule].

Sarah E. Sullivan,
Attorney, Ethics and Legal Compliance.

[FR Doc. 2024-04421 Filed 3-1-24; 8:45 am]

BILLING CODE 7710-12-P